DEPARTMENT OF THE INTERIOR

Minerals Management Service

Notice of Availability of the Final Environmental Impact Statement (EIS) for the Proposed Outer Continental Shelf (OCS) Oil and Gas Leasing Program for 2002-2007

AGENCY: Minerals Management Service, Interior.

ACTION: Notice of availability of the final EIS for the proposed OCS Oil and Gas Leasing Program for 2002-2007.

SUMMARY: The MMS has prepared a final EIS related to the Proposed OCS Oil and Gas Leasing Program for 2002-2007 pursuant to section 102(2)(C) of the National Environmental Policy Act of 1969.

FOR FURTHER INFORMATION CONTACT: Questions concerning the preparation of the final EIS should be directed to Minerals Management Service, Attention: Mr. Richard Wildermann, Environmental Division, 381 Elden Street, Mail Stop 4042, Herndon, Virginia 20170-4817. He may be reached by telephone at (703) 787-1670.

SUPPLEMENTARY INFORMATION: Information on the availability of the final EIS can be obtained from the Minerals Management Service, Environmental Assessment Branch, Mail Stop 4042, 381 Elden Street, Herndon, Virginia 20170-4817, telephone (703) 787-1728; Minerals Management Service, Gulf of Mexico OCS Region, 1201 Elmwood Park Boulevard, New Orleans, Louisiana 70123-2394, telephone (504) 736-2788 or 1-800-200-GULF; Minerals Management Service, Alaska OCS Region, 949 East 36th Avenue, Suite 300, Anchorage, Alaska 99508-4302, telephone (907) 271-6070 or 1-800-764-2627; and Minerals Management Service, Pacific OCS Region, 770 Paseo Camarillo, Camarillo, California 93010-60641, telephone (805) 389-7520 or 1-800-672-2627.

Dated: April 16, 2002.
Thomas A. Readinger,
Associate Director for Offshore Minerals Management.

Dated: April 16, 2002.
Willie R. Taylor,
Director, Office of Environmental Policy and Compliance.

[FR Doc. 02-9659 Filed 4-18-02; 8:45 am]

BILLING CODE 4310-MR-P